DEPARTMENT OF TRANSPORTATION

Federal Aviation Administration

14 CFR Part 121

[Docket No. FAA-2004-19835]

RIN 2120-AH82

Disqualification for Airman and Medical Certificate Holders Based on Alcohol Violations and Refusals To Submit to Drug or Alcohol Testing

AGENCY: Federal Aviation Administration (FAA), DOT.

ACTION: Correcting amendment.

SUMMARY: This document makes a correction to the final regulation published in the Federal Register on June 21, 2006. (71 FR 35760) This rule amended the airman medical certification standards to disqualify an airman based on an alcohol test result of 0.04 or greater breath alcohol concentration (BAC) or a refusal to take a drug or alcohol test required by the Department of Transportation (DOT) or a DOT agency.

DATES: Effective October 24, 2006.

FOR FURTHER INFORMATION CALL: Patrice M. Kelly, telephone (202) 267-8442.

SUPPLEMENTARY INFORMATION:

Need for Correction

As published, the final regulation contains an error referring to a drug test required that should read alcohol test required.

List of Subjects in 14 CFR Part 121

Air carriers, Aircraft, Airmen, Alcohol abuse, Aviation safety, Charter flights, Drug abuse, Drug testing, Reporting and recordkeeping requirements, Safety, Transportation.

Accordingly, 14 CFR part 121 is corrected by making the following correcting amendment:

PART 121—OPERATING REQUIREMENTS: DOMESTIC, FLAG, AND SUPPLEMENTAL OPERATIONS

1. The authority citation for part 121 continues to read as follows:

Authority: 49 U.S.C. 106(g), 40113, 40119, 41706, 44101, 44701-44703, 44705, 44709-44711, 44713, 44716-44717, 44722, 44901, 44903-44904, 44912, 45101-45105, 46105.

2. Revise paragraph D.1 of section V of Appendix J to Part 121 to read as follows:

Appendix J to Part 121—Alcohol Misuse Prevention Program

* * * * *

V. * * *

D. Notice of Refusals.

1. Each covered employer must notify the FAA within 2 working days of any employee who holds a certificate issued under part 61, part 63, or part 65 of this chapter who has refused to submit to an alcohol test required under this appendix. Notification must be sent to: Federal Aviation Administration, Office of Aerospace Medicine, Drug Abatement Division (AAM-800), 800 Independence Avenue, SW., Washington, DC 20591 or by fax to (202) 267-5200.

* * * * *

Issued in Washington, DC, on October 13, 2006.
Brenda D. Courtney,
Acting Director, Office of Rulemaking.

[FR Doc. E6-17823 Filed 10-23-06; 8:45 am]

BILLING CODE 4910-13-P